DEPARTMENT OF JUSTICE

Antitrust Division

Notice Pursuant to the National Cooperative Research and Production Act of 1993—Telemanagement Forum

Notice is hereby given that, on July 21, 2017, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Carphone Warehouse Ltd., London, UNITED KINGDOM; Crowd Frame Consulting Limited, Dublin, IRELAND; APIVERSITY, Madrid, SPAIN; UNITEL ONE SOURCE LIMITED, London, UNITED KINGDOM; Metaswitch Networks, Enfield, UNITED KINGDOM; ArtOfArc, Dortmund, GERMANY; Vecta Strategy, Dubai, UNITED ARAB EMIRATES; Telecommunications Services of Trinidad and Tobago Limited, Port of Spain, TRINIDAD AND TOBAGO; Wytec International, Inc., San Antonio, TX; Go plc, Marsa, MALTA; Orange Moldova, Chisinau, MOLDOVA; Dimension Data, Johannesburg, SOUTH AFRICA; GDi GISDATA LLC, Zagreb, CROATIA; Peritus j.d.o.o., Varazdin, CROATIA; Inomial Pty Ltd., Melbourne, AUSTRALIA; Simpledata Group S.A., Santiago, CHILE; KBZ Gateway Company Limited, Yangon, MYANMAR; CallVU, Tel Aviv, ISRAEL; Beyond Verbal, Tel Aviv, ISRAEL; Brytlyt Limited, Maidstone, UNITED KINGDOM; Smartpipe Solutions, London, UNITED KINGDOM; MindShift Ltd., Bangalore, INDIA; APInf, Tampere, FINLAND; New York University, New York, NY; Future Cities Catapult, London, UNITED KINGDOM; Spark New Zealand Limited, Auckland, NEW ZEALAND; Philips Electronics Nederland B.V., Eindhoven, NETHERLANDS; Sarpal Consultancy, Chigwell, UNITED KINGDOM; Agile Fractal Grid, Inc., Medway, MA; Neural Technologies, Petersfield, UNITED KINGDOM; Suomen Erillisverkot Oy, Espoo, FINLAND; CenturyLink, Inc., Monroe, LA; Windstream Communications, Little Rock, AR; Civity, Zeist, NETHERLANDS; de Brenni Executive Consulting Services, Adelaide, AUSTRALIA; KPMG Australia, Sydney, AUSTRALIA; Tata Communications Ltd., Mumbai, INDIA; TEAM COTE D'AZUR, Nice, FRANCE; Inabox Group Limited, Sydney, AUSTRALIA; PT Telekomunikasi Selular, Jakarta, INDONESIA; Cognitro Analytics, Toledo, OH; Claro Paraguay, Asuncion, PARAGUAY; Telcel Mexico, Ciudad de Mexico, MEXICO; Claro Uruguay, Montevideo, URUGUAY; Telekom Slovenije, Ljubljana, SLOVENIA; Claro Puerto Rico, Guaynabo, PUERTO RICO; Claro Argentina, Buenos Aires, ARGENTINA; IMImobile Ltd., London, UNITED KINGDOM; Hansen Technologies Denmark A/S, Sonderborg, DENMARK; Dark Fibre Africa, Gauteng, SOUTH AFRICA; Six DEE Telecom Solutions Pvt Ltd., Bangalore, INDIA; SFR, Paris, FRANCE; ForgeRock Inc., San Francisco, CA; America Movil, Ciudad De Mexico Distrito Federal, MEXICO; HITSS Consulting SA de CV, Tijuana, MEXICO; China Academy of Information and Communications Technology (CAICT), Beijing, PEOPLE'S REPUBLIC OF CHINA; THE GC INDEX LTD., London, UNITED KINGDOM; Metasite Data Insights, Vilnius, LITHUANIA; Bulb Technologies, Ltd., Zagreb, CROATIA; SKY BRASIL, São Paulo, BRAZIL; and Millicom Cable El Salvador, S.A. de C.V., Luxembourg, LUXEMBOURG, have been added as a parties to this venture.

Also, the following members have changed their names: ARGELA Technologies to ARGELA Yazilim ve Bilisim Teknolojileri Sanayi ve Ticaret A.S., Istanbul, TURKEY; Elitecore Technologies Limited to Sterlite Technologies Limited, Ahmedabad, INDIA; Mobinil—The Egyptian Company for Mobile Services to Orange Egypt, Cairo, EGYPT; and SMI Technologies to Quob Park Estate, Wickham, UNITED KINGDOM.

In addition, the following parties have withdrawn as parties to this venture: AFNS, LLC, Rock Round, TX; Aktavara AB, Stockholm, SWEDEN; Anritsu A/S, Copenhagen, DENMARK; ASPIDER Solutions US Inc, Salem, MA; Axino Solutions Group, Aachen, GERMANY; Azerfon, Baku, AZERBAIJAN; AZR L.L.C., Tripoli, LIBYA; Bispro Consulting, Jakarta, INDONESIA; Boeing Company, Seattle, WA; Brighthouse Networks, East Syracuse, NY; Canoe Ventures, Englewood, CO; Cisco Systems, San Jose, CA; ClickSoftware, Inc., Burlington, MA; Cloud Strategy Partners LLC, Scotts Valley, CA; Coeos Assurances, Paris, FRANCE; Converge ICT Solutions Inc., Pasig City, PHILIPPINES; Coraltree Systems Ltd., Fareham, UNITED KINGDOM; Core Information Consult, Jegenstorf, SWITZERLAND; Creating Waves AS, Kongsberg, NORWAY; Cubika S.A., Buenos Aires, ARGENTINA; Defence Science and Technology Laboratory, Salisbury, UNITED KINGDOM; Dorado Software, Folsom, CA; EASIS CONSULTING, Paris, FRANCE; Ebistrategy Software (Shanghai) Co., LTD., Shanghai, PEOPLE'S REPUBLIC OF CHINA; Efiniti Services, Macquarie Park, AUSTRALIA; Eurofiber Nederland BV, Maarssen Utrecht, NETHERLANDS; 28Focus Data Services Ltd., Oxfordshire, UNITED KINGDOM; Frontier Communications, Rochester, NY; GFI INFORMATIQUE, Saint-Ouen, FRANCE; Guangzhou Highjet Technology Co., Ltd., Guangzhou, PEOPLE'S REPUBLIC OF CHINA; HeyStaks, Dublin, IRELAND; Hydro-Quebec, Montreal, CANADA; IAB bvba—ICT Architecture, Leuven, BELGIUM; Ibis Instruments, Belgrade, SERBIA; IEON Consulting Ltd., London, UNITED KINGDOM; Innowave Technologies, Lisbon, PORTUGAL; Intense Technologies Limited, Secunderabad, INDIA; IoT connctd GmbH, Berlin, GERMANY; IRIS Network Systems, Cape Town, SOUTH AFRICA; IT Services Hungary LTD., Budapest, HUNGARY; Lebara Services Ltd., London, UNITED KINGDOM; Lotus Innovations, LLC, Irvine, CA; Manx ICT Association (MICTA), Douglas, UNITED KINGDOM; Massy Group, Port of Spain, TRINIDAD AND TOBAGO; MATRIXX Software, Mountain View, CA; MayerConsult, Inc., Ottawa, CANADA; MD Healthcare Consultants Ltd., Salford, UNITED KINGDOM; Mediacom Communications Corp., Middletown, NY; MedPal Health Solutions, Tel Aviv, ISRAEL; MFEC PLC., Bangkok, THAILAND; Michi Creative City Designers Inc., Chiyoda-ku, JAPAN; MicroSigns, Inc., Montreal, CANADA; Moogsoft Inc., San Francisco, CA; Net Servicos, Chacara Santo Antonio, BRAZIL; Netxcel Systems Pte Ltd., Toa Payoh, SINGAPORE; nTels Co. Ltd., Seoul, KOREA; Oger Telecom Management Services Company Ltd., Istanbul, TURKEY; OMANTEL, Muscat, OMAN; OpenVault, Golden, CO; Peter Ghys—individual contributor, Brighton, AUSTRALIA; Philippe Imoucha, Aix En Provence, FRANCE; Premavals, Noisy-le-Grand, FRANCE; Pryv, Lausanne, SWITZERLAND; Rede Nacional de Ensino e Pesquisa, Rio de Janeiro, BRAZIL; Rettungsdienst-Kooperation in Schleswig-Holstein (RKiSH) GmbH, Heide, GERMANY; Revenue Protect Limited, Hatfield, UNITED KINGDOM; RoboFold Ltd., London, UNITED KINGDOM; Smart Assistant, Vienna, AUSTRIA; TechNexxus, LLC, Potomac, MD; The KPI Guy, Arvada, CO; Tilgin IPRG AB, Kista, SWEDEN; Trilogy-International Partners, LLC., Bellevue, WA; T-Systems International Services GmbH, Frankfurt am Main, GERMANY; Ufone, Islamabad, PAKISTAN; UK Broadband Ltd., London, UNITED KINGDOM; Vasona Networks, Inc., San Jose, CA; Vodafone Netherlands, Maastricht, NETHERLANDS; West Avenue Capital Markets Partners, Darien, CT; ZAA Architects, Montréal, CANADA; Ziggo, Utrecht, NETHERLANDS; ING Bank N.V., Amsterdam, NETHERLANDS; Mascom Wireless (MTN Botswana), Gabarone, BOTSWANA; and PricewaterhouseCoopers LLP—Edmonton, Alberta, CANADA.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on January 23, 2017. A notice was published in the Federal Register pursuant to Section 6(b) of the Act on February 27, 2017 (82 FR 11943).

Patricia A. Brink,
Director of Civil Enforcement, Antitrust Division.

[FR Doc. 2017-18175 Filed 8-25-17; 8:45 am]

BILLING CODE P